DEPARTMENT OF VETERANS AFFAIRS

[OMB Control No. 2900-0741]

Agency Information Collection (VA Subcontracting Report for Service Disabled Veteran-owned Small Business and Veteran-owned Small Business Concerns) Activities Under OMB Review

AGENCY: Office of Small and Disadvantaged Business Utilization, Department of Veterans Affairs.

ACTION: Notice.

SUMMARY: In compliance with the Paperwork Reduction Act (PRA) of 1995 (44 U.S.C. 3501-3521), this notice announces that the Office of Small and Disadvantaged Business Utilization (OSDBU), Department of Veterans Affairs, will submit the collection of information abstracted below to the Office of Management and Budget (OMB) for review and comment. The PRA submission describes the nature of the information collection and its expected cost and burden and includes the actual data collection instrument.

DATES: Comments must be submitted on or before December 24, 2012.

ADDRESSES: Submit written comments on the collection of information through www.Regulations.gov; or to VA's OMB Desk Officer, OMB Human Resources and Housing Branch, New Executive Office Building, Room 10235, Washington, DC 20503 (202) 395-7316. Please refer to “OMB Control No. 2900-0741” in any correspondence.

FOR FURTHER INFORMATION CONTACT: Crystal Rennie, Enterprise Records Service (005R1B), Department of Veterans Affairs, 810 Vermont Avenue NW., Washington, DC 20420, (202) 632-7492, fax (202) 632-7583 or email crystal.rennie@va.gov. Please refer to “OMB Control No. 2900-0741.”

SUPPLEMENTARY INFORMATION: Title: VA Subcontracting Report for Service Disabled Veteran-owned Small Business and Veteran-owned Small Business Concerns, VA Form 0896a.

OMB Control Number: 2900-0741.

Type of Review: Extension of a previously approved collection.

Abstract: VA Form 0896a will be used to collect information from subcontractors to compare information obtained from subcontracting plans submitted by prime contractors in order to determine the accuracy of the data reported by prime contractors.

An agency may not conduct or sponsor, and a person is not required to respond to a collection of information unless it displays a currently valid OMB control number. The Federal Register Notice with a 60-day comment period soliciting comments on this collection of information was published on September 13, 2012, at page 56709-56710.

Affected Public: Business or other for-profit.

Estimated Annual Burden: 646 hours.

Estimated Average Burden per Respondent: 2 Hours.

Frequency of Response: One time.

Estimated Number of Respondents: 323.

Dated: November 19, 2012.
By direction of the Secretary.
Robert C. McFetridge,
Director, Office of Regulations Policy and Management, Office of the General Counsel, Department of Veterans Affairs.

[FR Doc. 2012-28446 Filed 11-21-12; 8:45 am]

BILLING CODE 8320-01-P